DEPARTMENT OF COMMERCE

International Trade Administration

[A-570-501]

Natural Bristle Paintbrushes and Brush Heads From the People's Republic of China; Notice of Rescission in Part of Antidumping Duty Administrative Review

AGENCY: Import Administration, International Trade Administration, Department of Commerce.

ACTION: Notice of rescission in part of the antidumping duty administrative review for the period February 1, 2000-January 31, 2001.

SUMMARY: In accordance with 19 CFR 351.213(b)(2), the Department received a timely request from petitioner, Paint Applicator Division of the American Brush Manufacturers Association (Paint Applicator Division), that we conduct an administrative review of the sales of Hebei Founder Import & Export Company (Founder) and Hunan Provincial Native Products Import & Export Corp. (Hunan). On March 22, 2001, the Department initiated an administrative review of the antidumping duty order on natural bristle paintbrushes and paint brush heads for the period of review (POR) of February 1, 2000 through January 31, 2001. We are now rescinding this review with respect to Founder because Founder did not have any sales, shipments or entries during the POR.

EFFECTIVE DATE: September 12, 2001.

FOR FURTHER INFORMATION CONTACT: Jacqueline Arrowsmith or Sally C. Gannon, AD/CVD Enforcement Group III, Office 7, Import Administration, International Trade Administration, U.S. Department of Commerce, 1401 Constitution Avenue, N.W., Washington, D.C. 20230; telephone: 202-482-4052 and 202-482-0162, respectively.

SUPPLEMENTARY INFORMATION:

Applicable Statute and Regulations

Unless otherwise indicated, all citations to the Tariff Act of 1930, as amended (“the Act”), are references to the provisions effective January 1, 1995, the effective date of the Uruguay Round Agreements Act. In addition, unless otherwise indicated, all citations to the Department's regulations are to the regulations codified at 19 CFR Part 351 (2000).

Background

On February 14, 2001, the Department published a notice of opportunity to request an administrative review of the antidumping duty order on natural bristle brushes and brush heads from the People's Republic of China (PRC) (66 FR 10269). On February 28, 2001, the Department received a timely request from the Paint Applicator Division for administrative reviews of Hunan Provincial Native Produce and Animal By-Products Import and Export Corporation (Hunan) and Hebei Founder Import and Export Company (Founder). On March 22, 2001, the Department initiated an administrative review of the antidumping duty order on natural bristle paintbrushes and paintbrush heads, for the period from February 1, 2000 through January 31, 2001, in order to determine whether merchandise imported into the United States is being sold at less than fair value prices. See Initiation of Antidumping and Countervailing Duty Administrative Reviews and Requests for Revocations in Part (66 FR 16037). We received a letter from Founder, on April 9, 2001, stating that it did not make any sales or shipments during the POR. On April 24, 2001, we received a letter from Hunan stating that no entries of subject merchandise exported by Hunan were made during the POR. On May 8, 2001, we issued the questionnaire to Founder and Hunan.

The Department performed a U.S. Customs Service (Customs) query for entries of natural bristle paintbrushes and brush heads, classified under the Harmonized Tariff Schedule of the United States (HTSUS) number 9603.40.40.40, from the PRC during the POR. We found no entries or shipments from Founder during the POR. However, we did find evidence of a potential entry from Hunan. In its June 22, 2001 response to our section A questionnaire, Hunan stated that it had one sample sale during the POR.

Rescission, in Part, of Antidumping Administrative Review

Pursuant to 19 CFR 351.213(d)(3), the Department may rescind an administrative review, in whole or only with respect to a particular exporter or producer, if the Secretary concludes that, during the period covered by the review, there were no entries, exports, or sales of subject merchandise. On July 26, 2001, the Department issued a memorandum stating our intent to rescind the review, in part, with regard to Founder in light of the information on the record that Founder did not sell, ship or enter the subject merchandise during the POR. The Department circulated this memorandum among the parties and received no comments. See Memorandum For the File From Jacqueline Arrowsmith Through Barbara E. Tillman: Partial Rescission of Antidumping Duty Administrative Review (July 26, 2001) (on file in the Department's Central Records Unit in Room B-099). Therefore, the Department has determined that it is reasonable to rescind, in part, the administrative review of the antidumping duty order on natural bristle paintbrushes and paintbrush heads with respect to Founder for the period February 1, 2000 through January 31, 2001. The Department will issue appropriate assessment instructions to Customs.

The Department is not rescinding its review of the antidumping duty order on natural bristle paintbrushes and paintbrush heads with respect to Hunan, for the period February 1, 2000 through January 31, 2001, because there is evidence on the record of a sale, made by Hunan to the United States market during the POR.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR 351.213(d)(3) and sections 751(a) and 777(i)(1) of the Act.

Dated: September 6, 2001.
Edward C. Yang,
Acting Deputy Assistant Secretary, AD/CVD Enforcement Group III.

[FR Doc. 01-22933 Filed 9-11-01; 8:45 am]

BILLING CODE 3510-DS-P